NATIONAL SCIENCE FOUNDATION

Special Emphasis Panel in Materials Research; Notice of Meeting

In accordance with the Federal Advisory Committee Act (Pub. L. 92-463 as amended), the National Science Foundation announces the following meeting.

Name: Special Emphasis Panel in Materials Research (1203).

Dates & Times: October 18-20, 2000; 8 a.m.-5 p.m.

Place: NIST Center for Neutron Research, Gaithersburg, MD.

Type of Meeting: Closed.

Contact Person: Dr. Guebre X. Tessema, Program Director, National Facilities and Instrumentation, Division of Materials Research, Room 1065, National Science Foundation, 4201 Wilson Boulevard, Arlington, VA 22230, Telephone (703) 292-4943.

Purpose of Meeting: To provide advice and recommendations concerning progress of NIST Center for Neutron Research, for determination of future funding.

Agenda: Review and evaluate progress of NIST Center for Neutron Research, for determination of future funding.

Reason for Closing: The Center being reviewed includes information of a proprietary or confidential nature, including technical information; financial data, such as salaries and personal information concerning individuals associated with the proposals. These matters are exempt under 5 U.S.C. 552b(c), (4) and (6) of the Government in the Sunshine Act.

Dated: September 13, 2000.
Karen J. York,
Committee Management Officer.

[FR Doc. 00-23892 Filed 9-15-00; 8:45 am]

BILLING CODE 7555-01-M